ENVIRONMENTAL PROTECTION AGENCY

40 CFR Part 60

[EPA-HQ-OAR-2010-0750; FRL-9667-3]

RIN 2060-AQ10

New Source Performance Standards Review for Nitric Acid Plants

Correction

In rule document 2012-19691 appearing on pages 48433 through 48448 in the issue of Tuesday, August 14, 2012, make the following correction.

1. On page 48447, Equation 1 is corrected as set forth below.

§ 60.75a Calculations [Corrected]

[FR Doc. C1-2012-19691 Filed 5-5-14; 8:45 am]

BILLING CODE 1505-01-D